FEDERAL COMMUNICATIONS COMMISSION

47 CFR Part 73

[DA 00-782; MM Docket No. 00-64, RM-9117]

Radio Broadcasting Services; Tullahoma, TN and Madison, AL

AGENCY: Federal Communications Commission.

ACTION: Proposed rule.

SUMMARY: The Commission requests comments on a petition filed by Tennessee Valley Radio, Inc., proposing the reallotment of Channel 227C1 from Tullahoma, Tennessee, to Madison, Alabama, and the modification of Station WPZM(FM)'s license accordingly. Channel 227C1 can be reallotted to Madison in compliance with the Commission's minimum distance separation requirements with a site restriction of 50.6 kilometers (31.4 miles) northeast at petitioner's presently licensed site. The coordinates for Channel 227C1 at Madison are 35-02-04 North Latitude and 86-22-52 West Longitude. In accordance with the provisions of section 1.420(i) of the Commission's Rules, we will not accept competing expressions of interest in the use of Channel 227C1 at Madison, Alabama.

DATES: Comments must be filed on or before May 30, 2000, reply comments on or before June 14, 2000.

ADDRESSES: Federal Communications Commission, Washington, DC 20554. In addition to filing comments with the FCC, interested parties should serve the petitioner, or its counsel or consultant, as follows: Jocelyn R. Roy, Gardner, Carton & Douglas, 1391 K Street, NW., Suite 900, East Tower, Washington, DC. 20005 (Counsel for Petitioner).

FOR FURTHER INFORMATION CONTACT: Sharon P. McDonald, Mass Media Bureau, (202) 418-2180.

SUPPLEMENTARY INFORMATION: This is a synopsis of the Commission's Notice of Proposed Rule Making, MM Docket No. 00-64, adopted March 29, 2000, and released April 7, 2000. The full text of this Commission decision is available for inspection and copying during normal business hours in the FCC Reference Information Center (Room CY-A257), 445 12th Street, SW., Washington, DC. The complete text of this decision may also be purchased from the Commission's copy contractor, International Transcription Service, Inc., (202) 857-3800, 1231 20th Street, NW., Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in CFR 47 CFR Part 73

Radio broadcasting.

Federal Communications Commission.
John A. Karousos,
Chief, Allocations Branch, Policy and Rules Division, Mass Media Bureau.

[FR Doc. 00-9777 Filed 4-18-00; 8:45 am]

BILLING CODE 6712-01-P